OFFICE OF PERSONNEL MANAGEMENT

5 CFR Part 532

RIN 3206-AJ60

Prevailing Rate Systems; Change in the Survey Cycle for the Portland, OR, Appropriated Fund Wage Area

AGENCY: Office of Personnel Management.

ACTION: Interim rule with request for comments.

SUMMARY: The Office of Personnel Management is issuing an interim rule to change the timing of local wage surveys in the Portland, Oregon, appropriated fund Federal Wage System (FWS) wage area. This change will help the Department of Defense better balance its FWS wage survey workload. DOD will conduct full-scale wage surveys in the Portland wage area in August of each even-numbered fiscal year beginning in August 2002.

EFFECTIVE DATE: This interim rule is effective on April 24, 2002. Comments must be received on or before May 24, 2002.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Chenty I. Carpenter at (202) 606-2838; by FAX at (202) 606-4264; or by e-mail at cicarpen@opm.gov.

SUPPLEMENTARY INFORMATION: The Department of Defense (DOD) requested that the Office of Personnel Management (OPM) change the timing of local wage surveys in the Portland, Oregon, appropriated fund Federal Wage System (FWS) wage area. Full-scale wage surveys currently begin in August of each odd-numbered fiscal year. Full-scale wage surveys will begin in the future in August of each even-numbered fiscal year. Under section 532.207 of title 5, Code of Federal Regulations, the scheduling of wage surveys takes into consideration the best timing in relation to wage adjustments in the principal local private enterprise establishments, a reasonable distribution of the workload of the lead agency, the timing of surveys for nearby wage areas, and scheduling relationships with other pay surveys.

DOD asked OPM to change the starting time for local wage surveys in the Portland, Oregon, wage area to August of even-numbered fiscal years to balance the overall workload of its survey office. DOD conducted a full scale survey in August of 2001 and will conduct another full-scale wage survey in Portland in August 2002.

The Federal Prevailing Rate Advisory Committee, the national labor-management committee responsible for advising OPM on matters concerning the pay of FWS employees, recommended by consensus that we change the full-scale survey cycle for the Portland wage area from August of each odd-numbered fiscal year to August of each even-numbered fiscal year.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Office of Personnel Management.
Kay Coles James,
Director.

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

Appendix A to Subpart B of Part 532 [Amended]

2. Appendix A to subpart B of Part 532 is amended by revising “odd” to “even” under the heading Fiscal year of full-scale survey under the State of Oregon for the Portland appropriated fund wage area.

[FR Doc. 02-9958 Filed 4-23-02; 8:45 am]

BILLING CODE 6325-39-M